NUCLEAR REGULATORY COMMISSION

[Docket Nos. 50-335-CO, 50-389-CO]; ASLBP No. 08-866-01-CO-BD01]

Florida Power And Light Co.; Establishment of Atomic Safety and Licensing Board

Pursuant to delegation by the Commission dated December 29, 1972, published in the Federal Register, 37 FR 28,710 (1972), and the Commission's regulations, see 10 CFR 2.104, 2.300, 2.303, 2.309, 2.311, 2.318, and 2.321, notice is hereby given that an Atomic Safety and Licensing Board is being established to preside over the following proceeding:

Florida Power and Light Co., St. Lucie Nuclear Plant, Units 1 and 2

(Confirmatory Order, Effective Immediately)

This Board is being established in response to a request for hearing that was filed pursuant to a notice issued by the NRC Staff (73 FR 36,131 (June 25, 2008)) that provided an opportunity for a hearing on the immediately effective confirmatory order of June 13, 2008 for the St. Lucie Nuclear Plant. The confirmatory order arose from investigations at St. Lucie Nuclear Plant by the NRC Staff that identified apparent violations for which escalated enforcement action was considered. The confirmatory order is the result of an agreement reached between the NRC Staff and the licensee, Florida Power and Light Co., during an alternative dispute resolution session. The NRC Staff determined that its concerns regarding public health and safety could be resolved through confirmation of the licensee's commitments as prescribed in the confirmatory order. Mr. Thomas Saporito, in his capacity as president of Saporito Energy Consultants (SEC), has submitted a request for hearing on behalf of SEC and himself.

The Board is comprised of the following administrative judges:

William J. Froehlich, Chairman, Atomic Safety and Licensing Board Panel, U.S. Nuclear Regulatory Commission, Washington, DC 20555-0001.

Thomas S. Moore, Atomic Safety and Licensing Board Panel, U.S. Nuclear Regulatory Commission, Washington, DC 20555-0001.

Michael F. Kennedy, Atomic Safety and Licensing Board Panel, U.S. Nuclear Regulatory Commission, Washington, DC 20555-0001.

All correspondence, documents, and other materials shall be filed in accordance with the NRC E-Filing rule, which the NRC promulgated in August 2007 (72 FR 49,139).

Issued at Rockville, Maryland, this 24th day of July, 2008.
E. Roy Hawkens,
Chief Administrative Judge, Atomic Safety and Licensing Board Panel.

[FR Doc. E8-17437 Filed 7-29-08; 8:45 am]

BILLING CODE 7590-01-P